OFFICE OF THE UNITED STATES TRADE REPRESENTATIVE

[Docket No. WTO/D-217]

WTO Consultations Regarding The Continued Dumping and Subsidy Offset Act of 2000

AGENCY: Office of the United States Trade Representative.

ACTION: Notice; request for comments.

SUMMARY: The Office of the United States Trade Representative (“USTR”) is providing notice that on December 21, 2000, Australia, Brazil, the European Communities (“EC”), India Indonesia, Japan, Korea, and Thailand, acting jointly and severally, requested consultations with the United States under the Understanding on Rules and Procedures Governing the Settlement of Disputes (“DSU”), the General Agreement Regarding Tariffs and Trade 1994 (“GATT 1994”), the Agreement on the Implementation of Article VI of GATT 1994 (“Antidumping Agreement”) and the Agreement on Subsidies and Countervailing Duties (“SCM Agreement”) regarding the Continued Dumping and Subsidy Offset Act of 2000 (“Offset Act”), Public Law No. 106-387. The requesting parties allege that the Offset Act is inconsistent with certain obligations of the United States under GATT 1994, the Antidumping Agreement and the SCM Agreement. Pursuant to Article 4.3 of the DSU, such consultations are to take place within a period of 30 days from the date of the request, or within a period otherwise mutually agreed between the United States and the requesting parties. USTR invites written comments from the public concerning the issues raised in this dispute.

DATES: although the USTR will accept any comments received during the course of the dispute settlement proceedings, comments should be submitted on or before February 9, 2001, to be assured of timely consideration by USTR.

ADDRESSES: Submit comments to Sandy McKinzy, Monitoring and Enforcement Unit, Office of the General Counsel, Room 122, Office of the United States Trade Representative, 600 17th Street, NW., Washington, DC, 20508, Attn: Byrd Amendment, Telephone: (202) 395-3582.

FOR FURTHER INFORMATION CONTACT: Rhonda K. Schnare, Associate General Counsel, Office of the United States Trade Representative, 600 17th Street, NW., Washington, DC, (202) 395-3582.

SUPPLEMENTARY INFORMATION: Section 127(b) of the Uruguay Round Agreements Act (URAA) (19 U.S.C. 3537(b)(1)) requires that notice and opportunity for comment be provided after the United States receives a request for the establishment of a WTO dispute settlement panel. Consistent with this obligation, but in an effort to provide additional opportunity for comment, USTR is providing notice that consultations have been requested pursuant to the WTO Dispute Settlement Understanding. If such consultations should fail to resolve the matter and a dispute settlement panel is established pursuant to the DSU, such panel, which would hold its meetings in Geneva, Switzerland, would be expected to issue a report on its findings and recommendations within six to nine months after it is established.

Major Issues Raised by the Consultation Request

The Continued Dumping and Subsidy Offset Act of 2000 amends the Tariff Act of 1930 to provide that duties collected pursuant to an antidumping duty order, a countervailing duty order or a finding under the Antidumping Act of 1921 are to be annually distributed to the affected domestic producers for their qualifying expenses.

The consultation request alleges the Offset Act constitutes a specific action against dumping or subsidization that is not contemplated by GATT 1994, the Antidumping Agreement or the SCM Agreement. The request further alleges that the Offset Act prevents the reasonable and impartial administration of the U.S. laws implementing the provisions of the Antidumping Agreement and the SCM Agreement regarding standing determinations and undertakings. Specifically, the request alleges that the Offset Act is inconsistent with

Article 18.1 of the Antidumping Agreement, in conjunction with Article VI:2 of GATT 1994 and Article 1 of the Antidumping Agreement;

Article 32.1 of the SCM Agreement, in conjunction with Article VI:3 of GATT 1994 and Articles 4.10, 7.9 and 10 of the SCM Agreement;

Article X(3)(a) of GATT 1994;

Article 5.4 of the Antidumping Agreement and Article 11.4 of the SCM Agreement;

Article 8 of the Antidumping Agreement and Article 18 of the SCM Agreement; and

Article XVI:4 of the Marrakesh Agreement Establishing the World Trade Organization (“WTO Agreement”), Article 18.4 of the Antidumping Agreement and Article 32.5 of the SCM Agreement.

In addition, the request alleges that the offsets paid under the Act constitute specific subsidies with the meaning of Article 1 of the SCM Agreement which may cause adverse effects to the requesting parties’ interests within the meaning of Article 5 of the SCM Agreement.

Finally, the request asserts that, whether or not in conflict with the cited agreements, the Offset Act may nullify or impair benefits accruing to the requesting parties in a manner described in Article XXIII:1(b) of GATT 1994.

Public Comment: Requirements for Submissions

Interested persons are invited to submit written comments concerning the issues raised in the dispute. Comments must be in English and provided in fifteen copies. A person requesting that information contained in a comment submitted by that person be treated as confidential business information must certify that such information is business confidential and would not customarily be released to the public by the commenter. Confidential business information must be clearly marked “BUSINESS CONFIDENTIAL” in a contrasting color ink at the top of each page of each copy.

Information or advice contained in a comment submitted, other than business confidential information, may be determined by USTR to be confidential in accordance with section 135(g)(2) of the Trade Act of 1974 (19 U.S.C. 2155(g)(2)). If the submitter believes that information or advice may qualify as such, the submitter—

(1) Must so designate the information or advice;

(2) Must clearly mark the material as “SUBMITTED IN CONFIDENCE” in a contrasting color ink at the top of each page of each copy; and

(3) Is encouraged to provide a non-confidential summary of the information or advice.

Pursuant to section 127(e) of the URAA (19 U.S.C. 3537(e)), USTR will maintain a file on this dispute settlement proceeding, accessible to the public, in the USTR Reading Room: Room 101, Office of the United States Trade Representative, 600 17th Street, N.W., Washington, D.C. 20508. The public file will include a listing of any comments received by USTR from the public with respect to the proceeding; the U.S. submissions to the panel in the proceeding, the submissions, or non-confidential summaries of submissions, to the panel received from other participants in the dispute, as well as the report of the dispute settlement panel, and, if applicable, the report of the Appellate Body. An appointment to review the public file (Docket WTO/D-217, Byrd Amendment Dispute) may be made by calling Brenda Webb, (202) 395-6186. The USTR Reading Room is open to the public from 9:30 a.m. to 12 noon and 1 p.m. to 4 p.m., Monday through Friday.

A. Jane Bradley,
Assistant United States Trade Representative for Monitoring and Enforcement.

[FR Doc. 01-1159 Filed 1-12-01; 8:45 am]

BILLING CODE 3190-01-M